DEPARTMENT OF HEALTH AND HUMAN SERVICES

National Institutes of Health

Center for Scientific Review; Amended Notice of Meeting

Notice is hereby given of a change in the meeting of the Macromolecular Structure and Function A Study Section, October 25, 2022, 08:30 a.m. to October 26, 2022, 06:00 p.m., American Inn of Bethesda, 8130 Wisconsin Ave., Bethesda, MD, 20814 which was published in the Federal Register on September 22, 2022, 87 FR 57917, Doc 2022-20563.

This meeting is being amended to change the location from the American Inn of Bethesda, 8130 Wisconsin Ave., Bethesda, MD 20814, to The Melrose Hotel, 2430 Pennsylvania Avenue NW, Washington, DC 20037. The meeting is closed to the public.

Dated: September 23, 2022.
Miguelina Perez,
Program Analyst, Office of Federal Advisory Committee Policy.

[FR Doc. 2022-21082 Filed 9-28-22; 8:45 am]

BILLING CODE 4140-01-P